DEPARTMENT OF HEALTH AND HUMAN SERVICES

Agency for Healthcare Research and Quality

Agency Information Collection Activities: Proposed Collection; Comment Request

AGENCY: Agency for Healthcare Research and Quality, HHS.

ACTION: Notice.

SUMMARY: This notice announces the intention of the Agency for Healthcare Research and Quality (AHRQ) to request that the Office of Management and Budget (OMB) approve the extension without change of the information collection project “Nursing Home Survey on Patient Safety Culture Database,” OMB No. 0935-0195.

DATES: Comments on this notice must be received by October 8, 2024.

ADDRESSES: Written comments should be submitted to: Doris Lefkowitz, Reports Clearance Officer, AHRQ, by email at REPORTSCLEARANCEOFFICER@ahrq.hhs.gov.

Copies of the proposed collection plans, data collection instruments, and specific details on the estimated burden can be obtained from the AHRQ Reports Clearance Officer.

FOR FURTHER INFORMATION CONTACT: Doris Lefkowitz, AHRQ Reports Clearance Officer, (301) 427-1477, or by email at REPORTSCLEARANCEOFFICER@ahrq.hhs.gov.

SUPPLEMENTARY INFORMATION:

Proposed Project

Nursing Home Survey on Patient Safety Culture Database

In 1999, the Institute of Medicine called for healthcare organizations to develop a safer health system. To respond to the need for tools to assess patient safety culture in healthcare, AHRQ developed and pilot tested the Surveys on Patient Safety Culture® (SOPS®) Nursing Home Survey with OMB approval (OMB No. 0935-0132). The survey is designed to enable nursing homes to assess provider and staff perspectives about patient safety issues, medical error, and error reporting. AHRQ made the survey publicly available along with a Survey User's Guide and other toolkit materials in November 2008 on the AHRQ website.

The AHRQ SOPS Nursing Home Database consists of data from the AHRQ Nursing Home Survey on Patient Safety Culture and may include reportable, non-required supplemental items. Nursing homes in the U.S. can voluntarily submit data from the survey to AHRQ through its contractor, Westat. The SOPS Nursing Home Database was developed by AHRQ in 2011 in response to requests from nursing homes interested in viewing their organizations' patient safety culture survey results. Organizations submitting data receive a feedback report, as well as a report on the aggregated, de-identified findings of the other nursing homes submitting data. These reports are used to assist nursing home staff in their efforts to improve patient safety culture in their organizations.

Rationale for the information collection. The SOPS Nursing Home Survey and SOPS Nursing Home Database support AHRQ's goals of promoting improvements in the quality and safety of healthcare in nursing home settings. The survey, toolkit materials, and database results are all made publicly available on AHRQ's website. Technical assistance is provided by AHRQ through its contractor at no charge to nursing homes, to facilitate the use of these materials for nursing home patient safety and quality improvement.

This research has the following goals:

• Present results from nursing homes that voluntarily submit their data,

• Provide data to nursing homes to facilitate internal assessment and learning in the patient safety improvement process, and

• Provide supplemental information to help nursing homes identify their strengths and areas with potential for improvement in patient safety culture.

This study is being conducted by AHRQ through its contractor, Westat, pursuant to AHRQ's statutory authority to conduct and support research on health care and on systems for the delivery of such care, including activities with respect to the quality, effectiveness, efficiency, appropriateness and value of healthcare services; quality measurement and improvement; and database development. 42 U.S.C 299a(a)(1), (2), and (8).

Method of Collection

To achieve the goal of this project the following activities and data collections will be implemented:

(1) Eligibility and Registration Form—The nursing home (or parent organization) point-of-contact (POC) completes a number of data submission steps and forms, beginning with the completion of an online Eligibility and Registration Form. The purpose of this form is to collect basic demographic information about the nursing home and initiate the registration process.

(2) Nursing Home Site Information—The purpose of the site information form, completed by the nursing home POC, is to collect background characteristics of the nursing home. This information will be used to analyze data collected with the SOPS Nursing Home Survey.

(3) Data Use Agreement—The purpose of the data use agreement, completed by the nursing home POC, is to state how data submitted by nursing homes will be used and provides confidentiality assurances.

(4) Data File(s) Submission—POCs upload their data file(s) using the data file specifications, to ensure that users submit their data in a standardized way (e.g., variable names, order, coding, formatting). The number of submissions to the database is likely to vary from submission period to submission period because nursing homes do not administer the survey and submit data every database year. Data submission is typically handled by one POC who is either a corporate level healthcare manager for a Quality Improvement Organization (QIO), a survey vendor who contracts with a nursing home to collect their data, or a nursing home Director of Nursing or nurse manager. POCs submit data on behalf of 1 nursing home, on average, because many nursing homes are part of a QIO or larger nursing home or health system that includes many nursing home sites, or the POC is a vendor that is submitting data for multiple nursing homes.

Estimated Annual Respondent Burden

Exhibit 1 shows the estimated annualized burden hours for the respondents' time to participate in the database. An estimated 50 POCs, each representing an average of 1 individual nursing home each, will complete the database submission steps and forms. Each POC will submit the following:

1. Eligibility and registration form (completion is estimated to take about 3 minutes).

2. Data Use Agreement (completion is estimated to take about 3 minutes).

3. Nursing Home Site Information Form (completion is estimated to take about 5 minutes).

4. Survey data submission will take an average of one hour.

The total annual burden hours are estimated to be 61 hours.

Exhibit 2 shows the estimated annualized cost burden based on the respondents' time to submit their data. The cost burden is estimated to be $3,853 annually.

Exhibit 1—Estimated Annualized Burden Hours
Form name | Number of respondents/ POCs | Number of responses per POC | Hours per response | Total burden hours
1. Eligibility/Registration Form | 50 | 1 | 3/60 | 3
2. Data Use Agreement | 50 | 1 | 3/60 | 3
3. Nursing Home Site Information Form | 50 | 1 | 5/60 | 5
4. Data Files Submission | 50 | 1 | 1 | 50
Total | NA | NA | NA | 61

Exhibit 2—Estimated Annualized Cost Burden
Form name | Total burden hours | Average hourly wage rate * | Total cost burden
1. Eligibility/Registration Forms | 3 | $64.64 | $194
2. Data Use Agreement | 3 | 64.64 | 194
3. Nursing Home Site Information Form | 5 | 64.64 | 233
4. Data Files Submission | 50 | 64.64 | 3,232
Total | 61 | NA | 3,853
* Mean hourly wage rate of $64.64 for Medical and Health Services Managers (SOC code 11-9111) was obtained from the May 2023 National Industry-Specific Occupational Employment and Wage Estimates, NAICS 623000—Nursing and Residential Care Facilities located at https://www.bls.gov/oes/current/naics3_623000.htm.

Request for Comments

In accordance with the Paperwork Reduction Act, 44 U.S.C. 3501-3520, comments on AHRQ's information collection are requested with regard to any of the following: (a) whether the proposed collection of information is necessary for the proper performance of AHRQ's health care research and health care information dissemination functions, including whether the information will have practical utility; (b) the accuracy of AHRQ's estimate of burden (including hours and costs) of the proposed collection(s) of information; (c) ways to enhance the quality, utility and clarity of the information to be collected; and (d) ways to minimize the burden of the collection of information upon the respondents, including the use of automated collection techniques or other forms of information technology.

Comments submitted in response to this notice will be summarized and included in the Agency's subsequent request for OMB approval of the proposed information collection. All comments will become a matter of public record.

Mamatha Pancholi,
Deputy Director.

[FR Doc. 2024-17737 Filed 8-8-24; 8:45 am]

BILLING CODE 4160-90-P